DEPARTMENT OF ENERGY

Federal Energy Regulatory Commission

[Docket No. CP02-381-001]

Texas Eastern Transmission, LP; Notice of Compliance Filing

April 19, 2004.

Take notice that on March 31, 2004, Texas Eastern Transmission, LP (Texas Eastern) tendered for filing as part of its FERC Gas Tariff, Seventh Revised Volume No. 1, tariff sheets listed below, to be effective May 1, 2004.

Texas Eastern states that the purpose of this filing is to comply with the Commission's orders issued in the captioned docket on October 31, 2002, and February 28, 2003, in which the Commission approved Texas Eastern's application for a certificate of public convenience and necessity authorizing the construction of certain pipeline facilities referred to as the M-1 Expansion Project. Texas Eastern states that the revised tariff sheets reflect the recourse rates for the M-1 Expansion Project service, and incorporate references to the new incremental M-1 Expansion Project service into Rate Schedule FT-1 and the General Terms and Conditions of the Tariff. Specifically, Texas Eastern notes that the tariff sheets reflect a maximum reservation rate of $7.212 per Dth per month, or $0.2371 per Dth on a 100% load factor basis.

Texas Eastern states that copies of its filing have been served upon all affected customers of Texas Eastern and interested State commissions.

Texas Eastern's proposed tariffs sheets to its FERC Gas Tariff, Seventh Revised Volume No. 1 to be effective May 1, 2004 are:

Original Sheet No. 40A

Fifth Revised Sheet No. 211

Third Revised Sheet No. 213

Third Revised Sheet No. 501

Third Revised Sheet No. 529

Fifth Revised Sheet No. 624

Fourth Revised Sheet No. 627

Any person desiring to be heard or to protest said filing should file a motion to intervene or a protest with the Federal Energy Regulatory Commission, 888 First Street, NE., Washington, DC 20426, in accordance with sections 385.214 or 385.211 of the Commission's rules and regulations. All such motions or protests must be filed on or before the date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Protest Date: April 26, 2004.

Magalie R. Salas,
Secretary.

[FR Doc. E4-940 Filed 4-26-04; 8:45 am]

BILLING CODE 6717-01-P